Title 3—

The President

Proclamation 9195 of October 14, 2014

Blind Americans Equality Day, 2014

By the President of the United States of America

A Proclamation

For half a century, our Nation has set aside one day every year to honor the contributions of blind and visually impaired Americans. In that time, we have built a more just and more inclusive society. We have torn down barriers to full participation in our democracy and economy—but more work remains to guarantee all Americans have a fair shot at success. Today, we reaffirm our commitment to equal access, equal opportunity, and equal respect for every person and continue our work to ensure that no one is excluded from America's promise.

All Americans have a fundamental right to dignity and respect, and to fully take part in the American experience. Every day, people with visual impairments and other print disabilities enrich our communities and demonstrate the inherent worth of every person. In our classrooms, blind Americans teach history and mathematics while fostering an early awareness of the innate possibility within each person. On canvas and through music, artists with visual impairments show us the world as they know it and broaden our understanding of our universe. Across our country, Americans with disabilities contribute to our workplaces and our economy while securing stronger futures for themselves and their families.

My Administration is dedicated to expanding opportunity because all people deserve the freedom to make of their lives what they will. We are building on the foundation of the Americans with Disabilities Act by strengthening the protections against disability-based discrimination and advancing programs that increase accessibility in the places we learn, work, and live. Because Braille is a key tool that unlocks learning for many blind and visually impaired students, my Administration continues to support Braille instruction in classrooms throughout our Nation. We are committed to promoting access to employment opportunities for individuals with disabilities, ensuring new technology remains accessible so disabilities do not stand in the way of cutting-edge innovation, and—through new protections in the Affordable Care Act—preventing health insurance companies from denying coverage based on pre-existing conditions, medical history, or genetic information.

When our Nation is able to harness the full potential of all our citizens, we can achieve extraordinary things. On Blind Americans Equality Day, we resolve to live up to the principles enshrined in the heart of our Nation and do our part to form a more perfect Union.

By joint resolution approved on October 6, 1964 (Public Law 88-628, as amended), the Congress designated October 15 of each year as “White Cane Safety Day” to recognize the contributions of Americans who are blind or have low vision. Today, let us recommit to ensuring we remain a Nation where all our people, including those with disabilities, have every opportunity to achieve their dreams.

NOW, THEREFORE, I, BARACK OBAMA, President of the United States of America, by virtue of the authority vested in me by the Constitution and the laws of the United States, do hereby proclaim October 15, 2014, as Blind Americans Equality Day. I call upon public officials, business and community leaders, educators, librarians, and Americans across the country to observe this day with appropriate ceremonies, activities, and programs.

IN WITNESS WHEREOF, I have hereunto set my hand this fourteenth day of October, in the year of our Lord two thousand fourteen, and of the Independence of the United States of America the two hundred and thirty-ninth.

[FR Doc. 2014-24931

Filed 10-16-14; 11:15 am]

Billing code 3295-F5